NUCLEAR REGULATORY COMMISSION

[Docket Nos. 50-269, 50-270, and 50-287; NRC-2012-0093]

Duke Energy Carolinas, LLC; Notice of Withdrawal of Application for Amendment to Facility Operating License

The U.S. Nuclear Regulatory Commission (the Commission) has granted the request of Duke Energy Carolinas, LLC (the licensee) to withdraw its November 15, 2010, application for proposed amendment to Renewed Facility Operating Licenses DPR-38, DPR-47, and DPR-55, for the Oconee Nuclear Station, Units 1, 2, and 3, respectively, located in Oconee County, South Carolina.

The proposed amendment would approve changes to the updated final safety analysis report to allow operation of a reverse osmosis system during normal plant operation to remove silica from the borated water storage tank and the spent fuel pool.

The Commission had previously issued a Notice of Consideration of Issuance of Amendment published in the Federal Register on December 14, 2010 (75 FR 77911). However, by letter dated April 3, 2012 (Agencywide Documents and Access Management System (ADAMS) Accession No. ML12095A184), the licensee withdrew the proposed change.

For further details with respect to this action, see the application for amendment dated November 15, 2010 (ADAMS Accession No. ML103220101), as supplemented by letters dated February 18, 2011 (ADAMS Accession No. ML110550616), May 12, 2011 (ADAMS Accession No. ML11137A112), August 2, 2011 (ADAMS Accession No. ML11215A198), October 10, 2011 (ADAMS Accession No. ML11285A302), and December 15, 2011 (ADAMS Accession No. ML11354A253), and the licensee's letter dated April 3, 2012, which withdrew the application for license amendment. Documents may be examined, and/or copied for a fee, at the NRC's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 12th day of April 2012.
John Stang,
Senior Project Manager, Plant Licensing Branch II-1, Division of Operating Reactor Licensing, Office of Nuclear Reactor Regulation.

[FR Doc. 2012-9580 Filed 4-19-12; 8:45 am]

BILLING CODE 7590-01-P